FEDERAL COMMUNICATIONS COMMISSION

47 CFR Part 73

[DA 05-3210; MB Docket No. 03-56, RM-10662, RM-10775]

Radio Broadcasting Service; George West, Three Rivers, and Victoria, Texas

AGENCY: Federal Communications Commission.

ACTION: Final rule.

SUMMARY: The Audio Division, at the request of Victoria RadioWorks, Ltd., substitutes Channel 265C3 for Channel 265A at Victoria, Texas and modifies Station KEPG(FM)'s license accordingly. To accommodate the upgrade, we also delete vacant Channel 265A at George West, Texas. The construction permit for the George West allotment expired in 2000. See 68 FR 15142, published March 28, 2003. Channel 265C3 can be allotted to Victoria in compliance with the Commission's minimum distance separation requirements, provided there is a site restriction of 7.1 kilometers (4.4 miles) southwest of the community at coordinates 28-46-40 North Latitude and 97-04-10 West Longitude. In addition, the Audio Division at the request of M.C. Vargas dismisses his counterproposal to allot Channel 265A at Three Rivers, Texas.

DATES: Effective January 30, 2006.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 03-56, adopted December 14, 2005, and released December 16, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Therefore, for the reasons set forth in the preamble, FCC amends 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by removing Channel 265A at George West, by removing Channel 265A and by adding Channel 265C3 at Victoria.

Federal Communications Commission.
John A. Karousos,
Assistant Chief, Audio Division, Media Bureau.

[FR Doc. 06-44 Filed 1-3-06; 8:45 am]

BILLING CODE 6712-01-P